DEPARTMENT OF STATE

[Delegation of Authority No. 568]

Delegation of Authority—Authorities of the Under Secretary for Civilian Security, Democracy, and Human Rights

ACTION: Delegation of authority.

SUMMARY: The State Department is publishing a Delegation of Authority signed by the Secretary of State on December 20, 2024.

SUPPLEMENTARY INFORMATION: Antony J. Blinken, Secretary of State, signed the following “Delegation of Authority—Authorities of the Under Secretary for Civilian Security, Democracy, and Human Rights” on December 20, 2024. The State Department maintains the original document.

(Begin text.)

Delegation of Authority—Authorities of the Under Secretary for Civilian Security, Democracy, and Human Rights

By virtue of the authority vested in the Secretary of State by the laws of the United States, including section 1(a)(4) of the State Department Basic Authorities Act (22 U.S.C. 2651a(a)(4)), I hereby delegate to Todd D. Robinson, to the extent authorized by law, all authorities vested in or delegated to the Under Secretary for Civilian Security, Democracy, and Human Rights by any act, order, determination, delegation of authority, regulation, or executive order, now or hereafter issued.

The Secretary, Deputy Secretary, Deputy Secretary for Management and Resources, and the Under Secretary for Management may exercise any function or authority delegated herein. This delegation of authority does not modify any other delegation of authority currently in effect.

This delegation will be effective on January 10, 2025, and will expire upon the entry upon duty of a confirmed Under Secretary for Civilian Security, Democracy, and Human Rights unless sooner revoked, and shall be published in the Federal Register.

(End text.)

Zachary A. Parker,
Director, Office of Organizational Policy, Department of State.

[FR Doc. 2025-00679 Filed 1-14-25; 8:45 am]

BILLING CODE 4710-10-P